NATIONAL SCIENCE FOUNDATION

Advisory Panel for Systematic and Population Biology; Notice of Meeting

In accordance with the Federal Advisory Committee Act (Pub. L. 92-463, as amended), the National Science Foundation announces the following meetings of the Advisory Panel for Systematic and Population Biology (1753):

Date/Time: April 12-14, 2000; 8 a.m.-5 p.m.

Place: National Science Foundation, 4201 Wilson Boulevard, Rooms 380 and 390, Arlington, VA 22230.

Contact Person: Dr. Elizabeth Lyons, Division of Environmental Biology, Room 635, National Science Foundation, 4201 Wilson Boulevard, Arlington, VA 22230. Telephone: (703) 306-1481.

Agenda: To review and evaluate Population Biology proposals as part of the selection process for awards.

Date/Time: April 26-28, 2000; 8:30 a.m.-5 p.m.

Place: National Science Foundation, 4201 Wilson Boulevard, Room 375, Arlington, VA 22230.

Contact Person: Dr. Mary McKitrick, Division of Environmental Biology, Room 635, National Science Foundation, 4201 Wilson Boulevard, Arlington, VA 22230. Telephone: (703) 306-1481.

Agenda: To review and evaluate Systematic Biology proposals as part of the selection process for awards.

Purpose of Meetings: To provide advice and recommendations concerning proposals submitted to NSF for financial support.

Type of Meetings: Closed.

Reason for Closing: The proposals being reviewed include information of a proprietary or confidential nature, including technical information; financial data, such as salaries, and personal information concerning individuals associated with the proposals. These matters are exempt under 5 U.S.C. 552b(c), (4) and (6) of the Government in the Sunshine Act.

Dated: April 6, 2000.
Karen J. York,
Committee Management Officer.

[FR Doc. 00-9193 Filed 4-12-00; 8:45 am]

BILLING CODE 7555-01-M